DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 19, 2012. If you anticipate difficulty in submitting comments within that period, contact the person listed in ADDRESSES as soon as possible.

ADDRESSES: Written comments may be sent to Andre de Fontaine, EE-2F/Forrestal Building, 1000 Independence Avenue SW., 20585 or by fax at (202) 586-5234 or by email at andre.defontaine@EE.doe.gov.

FOR FURTHER INFORMATION CONTACT: Requests for additional information or copies of the information collection instrument and instructions should be directed to Andre de Fontaine, EE-2F/Forrestal Building, 1000 Independence Avenue SW., 20585 or by fax at (202) 586-5234 or by email at andre.defontaine@EE.doe.gov.

SUPPLEMENTARY INFORMATION: This information collection request contains: (1) OMB No.: 1910-5141;

(2) Information Collection Request Title: Department of Energy Better Buildings, Better Plants Program Information Collection Request;

(3) Type of Review: Renewal;

(4) Purpose: The information being collected is needed to evaluate the success of the voluntary agreements made through the Department of Energy's (DOE) Better Buildings, Better Plants (BBBP) Program. The BBBP Program is a voluntary initiative, created to support congress's Energy Policy Act of 2005, as amended, section 106, for any company interested in reducing their energy intensity by 25 percent or more in ten years. The program is specifically designed to encourage and recognize United States companies that are in the vanguard of energy efficiency and will lead all industrial facilities by establishing and achieving ambitious energy goals. All companies participating in the program will receive technical support from DOE, and companies achieving the program's energy goals will also receive national recognition for their accomplishments. The information to be collected from Partner plants includes: Background data, including contact information, information on primary energy consumption and energy saving, high level descriptions of implemented energy projects, and annual and cumulative energy intensity progress. The results of the Better Buildings, Better Plants Voluntary Pledge Report will only be published in program evaluation and metrics documentation. Results will be published in aggregate to report the impact of the DOE program in a report that must be submitted to Congress in 2012 and 2017.

(5) Annual Estimated Number of Respondents: 175;

(6) Annual Estimated Number of Total Responses: 175;

(7) Annual Estimated Number of Burden Hours: 2,975;

(8) Annual Estimated Reporting and Recordkeeping Cost Burden: $0.

Statutory Authority: Section 106 of the Energy Policy Act of 2005, as amended, codified at 42 U.S.C. 15811.

Issued in Washington, DC on January 13, 2012.
Leo Christodoulou,
Program Manager, Office of Advanced Manufacturing Program, Office of Energy Efficiency and Renewable Energy, United States Department of Energy.

[FR Doc. 2012-978 Filed 1-18-12; 8:45 am]

BILLING CODE 6450-01-P